ENVIRONMENTAL PROTECTION AGENCY

[ER-FRL-6637-8]

Environmental Impact Statements; Notice of Availability

Responsible Agency: Office of Federal Activities, General Information (202) 564-7167 or http://www.epa.gov/compliance/nepa/.

Weekly receipt of Environmental Impact Statements filed February 10, 2003, through February 14, 2003, pursuant to 40 CFR 1506.9.

EIS No. 030054, Draft Supplement, BLM, WY, Jack Morrow Hills Coordinated Activity Plan/Draft Green River Resource Management Plan Amendment, Updated Information, Rock Springs, Portions of Sweetwater, Fremont and Subelette Counties, WY, Comment Period Ends: May 15, 2003, Contact: Joe Patti (307) 775-6101. This document is available on the Internet at: http://www.wy.blm.com.

EIS No. 030057, Draft Supplement, FHW, FL, FL-23 Extension (Branan Field—Chaffee Road), Construction from FL-134 (103rd Street) to FL-8 (I-10) and FL-10 (US-90/Beaver Street), NPDES and US Army COE Section 404 Permits Issuance, FM No. 209659-1 and FAP No. 9041-047-C, Clay and Duval Counties, FL, Comment Period Ends: April 7, 2003, Contact: Jose Pena (850) 942-9650 Ext. 3033.

EIS No. 230058, Final EIS, FHW, SC, James E. Clyburn Connector Project, Construction of a Two-Lane Rural Roadway Northeast of Orangeburg and Southwest of Sumter, Funding and U.S. Army COE Section 404 Permit Issuance, Calhoun, Sumter and Claredon Counties, SC, Wait Period Ends: April 1, 2003, Contact: Daniel T. Hinton (803) 253-3887.

EIS No. 030059, Final Supplement, NPS, ID, MT, WY, MT, WY, Yellowstone and Grand Teton National Parks and John D. Rockerfeller, Jr., Memorial Parkway, Winter Use Plans, Updated and New Information on New Generation of Snowmobiles that Produce fewer Emissions and are Quieter, Fremont County, ID, Gallatin and Park Counties, MT and Park and Teton Counties, WY, Wait Period Ends: March 24, 2003, Contact: Madeleine VanderHeyden (307) 739-3385.

EIS No. 030060, Final EIS, FTA, NV, Las Vegas Resort Corridor Project, Transportation Improvements, Funding, City of Las Vegas, Clark County, NV, Wait Period Ends: March 24, 2003, Contact: Ray Sukys (415) 744-3115.

EIS No. 030061, Final EIS, FHW, CA, Butte 70/149/99/191 Highway Improvement Project, Update State Route 149 to Four-Lane Expressway from 70 North of Oroville to Route 99 South of Chico, Funding, Right-of-Way Acquisition, and U.S. Army Section 404 Permit Issuance, Butte County, CA, Wait Period Ends: March 24, 2003, Contact: Maiser Khaled (916) 498-5020.

EIS No. 030062, Draft EIS, AFS, MT, Sheep Creek Range Analysis, Proposal to Reorganize Grazing and Special Use Allotments, Grazing and Special Use Permits Issue, Lewis and Clark National Forest, White Sulphur Springs Ranger District, Meagher and Cascade Counties, MT, Comment Period Ends: April 7, 2003, Contact: Eldon Rash (406) 791-7706.

EIS No. 030063, Draft EIS, FHW, MT, Interstate 15 Corridor Project, Transportation Improvements from Montana City to the Lincoln Road Interchange, Funding and U.S. Army COE Section 404 Permit Issuance, Jefferson and Lewis & Clark Counties, MT, Comment Period Ends: April 7, 2003, Contact: Carl James (406) 449-5302.

EIS No. 030064, Final EIS, FHW, IL, U.S. 34/FAP 313 Transportation Facility Improvement Project, U.S. 34 from the Intersection of Carman Road east of Gulfport to Monmouth, Funding and U.S. Army COE Section 404 and NPDES Permits Issuance, Henderson and Warren Counties, IL, Wait Period Ends: March 24, 2003, Contact: Norman R. Stoner (217)492-4600.

Dated: February 19, 2003.
Joseph C. Montgomery,
Director, NEPA Compliance Division, Office of Federal Activities.

[FR Doc. 03-4299 Filed 2-20-03; 8:45 am]

BILLING CODE 6560-50-P